DEPARTMENT OF AGRICULTURE

Forest Service

Modoc National Forest; California; Modoc National Forest Noxious Weed Strategy Implementation Project

AGENCY: Forest Service, USDA.

ACTION: Revision of notice of intent to prepare an environmental impact statement published at 63 FR 20375, April 24, 1998.

SUMMARY: This environmental analysis focuses on the planning and control element of the Modoc National Forest Noxious Weed Strategy. Physical treatment and herbicide application will be analyzed, other elements identified in the strategy are very important aspects of the Forest weed program, but environmental analysis and documentation are not required to implement those activities. An Integrated Weed Management (IWM) approach was used to determine treatment methods for all known noxious weed occurrences. Treatment will occur to noxious weeds spread geographically over <1% of the Forest, at known infestation sites, by a variety of treatment methods. Sites planned for treatment range in size from single plants to infestations covering up to 1,500 acres. Actual treatment would not exceed 1,500 acres per year.

Physical treatment includes hand pulling, digging, and grubbing. These treatments will be applied within 10 feet of streams and other water features or to small, isolated populations of 100 plants or less where mechanical treatments can be effective.

Herbicide application will occur directly to weed leaves and stems. Two types of foliar applications will be used: Spot applicators —herbicide is sprayed directly onto target plants only; other desirable plants are avoided. These applicators include motorized rigs with spray hoses, backpack sprayers, and hand-pumped spray or spray bottles that can target very small plants or parts of plants, and Wick (wipe-on) applicators —A sponge or wick on a handle wipes herbicide onto weed foliage and stems. The wick generally prevents drift or droplets from falling onto non-target plants and soil.

All herbicides proposed for use are registered in the U.S. and California and have a label certifying that the Federal Environmental Protection Agency (EPA) and the California Department of Pesticide Regulation (DPR) have approved the chemical for use. No biological control or aerial spraying of herbicides is planned in the proposed action. Implementation would begin in the spring and summer following the decision and extend for a period of at least 5 years.

DATES: The draft environmental impact statement is expected November 29, 2002, and the final environmental impact statement is expected January 31, 2003.

ADDRESSES: Send written comments to Kathleen Jordan, Acting Forest Supervisor, Modoc National Forest, Supervisor's Office 800 W. 12th, Alturas, CA 96101 (kjordan@fs.fed.us).

For further information, mail correspondence to Irene Davidson, Project Team Leader, Modoc National Forest, Supervisor's Office 800 W. 12th, Alturas, CA 96101 (idavidson@fs.fed.us).

FOR FURTHER INFORMATION CONTACT: Irene Davidson, Project Team Leader, Modoc National Forest, Supervisor's Office 800 W. 12th, Alturas, CA 96101 (idavidson@fs.fed.us).

SUPPLEMENTARY INFORMATION: The electronic copy of the draft environmental impact statement can be viewed at the Modoc National Forest Planning page: http://www.r5.fs.fed.us/modoc/management/nepa/nepa.html.

Purpose and Need for Action

This environmental impact statement (EIS) is the site-specific decision level for implementing treatment activities identified in the Modoc National Forest Noxious Weed Strategy. This strategy was prepared to tier to the Forest Service National and Regional strategies that are currently in place to address key elements of a comprehensive weed program. The Forest completed a Noxious and Invasive Plant Strategy in 2002. The Forest is directed to develop and implement weed programs and work cooperatively with other Federal, State, and local agencies and groups in the Federal Noxious Weed Act of 1974, as amended (7 U.S.C. 2801, et seq.), FSM Direction (FSM 2080), the Modoc Land and Resource Management Plan (MLRMP), and Presidential Executive Order #13112. Forest Service regulation at 36 Code of Federal Regulations (CFR) 222.8 acknowledges the Agency's obligation to work cooperatively in identifying noxious weed problems and developing control programs in areas where NFS lands are located.

The objectives of implementing the proposed treatment activities through the Modoc National Forest Noxious Weed Strategy Implementation Project are to:

• Protect the ecosystem function and biodiversity of the Modoc by preventing the continued spread of non-native noxious and invasive plant species.

• Prevent the spread of established non-native noxious and invasive plants into areas containing little or no infestation.

• Eradicate new invaders (non-native noxious and invasive plant species not previously reported in the area) before they become established.

• Eradicate or control known non-native noxious and invasive plant infestations in areas that are considered infestation pathways for the establishment and movement of these plants on the Modoc (roads, trails, streams, intensely burned areas).

On the Forest, the numbers of exotic invasive plant species and areas infested are relatively small compared to other parts of the west. There are still opportunities to prevent extensive weed infestation and spread if aggressive, consistent treatment is employed. The species of highest priority for treatment (e.g. the knapweeds, yellow starthistle, Dalmatian toadflax) are in relatively small, scattered populations on the scale of hundreds of gross acres.

Prevention is recognized as the best, most cost-effective strategy, but once infestation has occurred, actions must be taken to prevent further establishment and spread of the alien species. As discussed below, treatments are a part of a larger overall strategy. Noxious weeds and invasive exotic plants are an increasing threat to the function, composition, and structure of native ecosystems.

All ecosystems (rangelands, forests, grasslands, riparian areas, wetlands, lakes, and streams) are vulnerable to invasion by non-native weed species. Noxious weeds and invasive exotic plants are a serious biodiversity issue of great significance to human and natural resource conditions on the Modoc National Forest (Forest). Noxious weeds have traditionally been considered primarily rangeland and agricultural problems in the western United States.

Aggressive noxious weed species often out-compete native plants for water, nutrients, sunlight, and space. Many species contain chemical compounds that prevent other plant seeds from germinating (allelopathic) at the same site. When noxious weeds dominate sites, the composition, structure, and function of the entire ecological community is altered. Weed infestations affect wildlife by reducing important food plants and modifying habitat characteristics such as cover and movement corridors.

Noxious weed altering of habitat and competition for resources adversely affects more than 50% of all threatened and endangered species in the United States.

Because of the root structure and growth characteristics of some noxious weeds, soil erosion will increase, affecting water quality and aquatic habitat. Some exotic weeds, such as cheat grass, create unnatural fuel conditions and alter the natural fire regime.

Exotic weeds decrease the quantity and quality of desired forage species and rangeland production. Many weed species contain compounds that are toxic to livestock when eaten in abundance. Noxious weeds negatively affect many recreational experiences, hamper vegetation restoration efforts, interfere with the maintenance and function of aquatic and riparian habitats, and potentially displace plant communities with important cultural values.

Conservation organizations now recognize invasive weed species as a threat to wildland biodiversity and ecosystem integrity, which is second only to habitat loss. Invasive alien species can cause significant irreversible environmental and socio-economic impact at the genetic, species, and ecosystem levels.

On this Forest, the major habitat and source of dispersal for weeds is roads. The constantly disturbed cut and fill slopes of a road prism and associated high traffic create ideal conditions for many weed species. Forested habitats are not immune from weed invasion. Intact forest ecosystems are less vulnerable to invasion, but both natural and human-related disturbances such as fire, floods, mineral extraction, grazing, and timber harvest can create opportunities for weeds to become established and spread. Many weed species are located and spread along stream courses and river corridors. These areas are particularly vulnerable to weed infestation due to frequent flooding events and associated water use and recreation. High water can move weed seeds and root material long distances downstream where they establish new plant populations.

Proposed Action

This environmental analysis focuses on the planning and control element of the Modoc National Forest Noxious Weed Strategy. Other elements identified in the strategy are very important aspects of the Forest weed program, but environmental analysis and documentation are not required to implement those activities.

Sites planned for treatment range in size from single plants to infestations covering up to 1,500 acres. Actual treatment would not exceed 1,500 acres per year. The word “control” refers to eradication (elimination) or reduction for some weed populations, and slowing the rate of spread for others.

There are currently nine A-rated weed species known to occur on the Forest: Common crupina, dalmatian toadflax, diffuse knapweed, musk thistle, plumeless thistle, Scotch thistle, spotted knapweed, squarrose knapweed, and wavyleaf thistle. The goal for A-rated weed species (using the State of California Noxious Weed list and County ratings) is eradication.

Based on current inventories, known sites of A-rated weeds currently occupy a gross area of approximately 27,000 acres on the Modoc. These acres are calculated as gross acres and reflect the entire perimeters of areas in which those weed species occur. Forest-wide data indicate that these species occur in scattered, dispersed patches and generally occupy less than 10 percent of the gross acreage.

Six species of B- and C-rated weed pests in areas of local concern will be treated: Canada thistle, dyers woad, Klamath weed, Mediterranean sage, perennial pepperweed and yellow starthistle. Small infestations will be eradicated. Larger infestations will be controlled. These species occur in roughly the same numbers as the A-rated species and their density and frequency varies according to individual site locations. These species are generally widespread in the State of California and in Modoc, Lassen and Siskiyou Counties, and eradication is not an achievable goal on a broad scale. Treatment of these species will receive a different priority. The strategy will be to control the more extensive infestations by keeping them within currently identified boundaries and treating new invasions into previously uninfested areas.

Treatment

An Integrated Weed Management (IWM) approach has been used to determine treatment methods for all known noxious weed occurrences. IWM is the subset of Integrated Pest Management specific to weed control.

Methods

Physical Treatment

This method includes hand pulling, digging, and grubbing. These treatments will be applied within 10 feet of streams and other water features described below or to small, isolated populations of 100 plants or less where mechanical treatments can be effective.

Release of Biological Control Agents

No Biological control is planned in the proposed action.

Herbicide Application

No aerial spraying of herbicides is planned in the proposed action.

All herbicides registered for use in the U.S. and California must have a label certifying that the Federal Environmental Protection Agency (EPA) and the California Department of Pesticide Regulation (DPR) have approved the chemical for use. The label contains information about the product, including its relative toxicity, potential hazard to humans and the environment, directions for use, storage and disposal, and first aid treatment in case of exposure. Product labels are legal documents whose language is determined and approved by the EPA during the pesticide registration process. Chemical herbicide treatment will include the use of the following herbicides: 2,4-D, clopyralid, dicamba, glyphosate, hexazinone, and triclopyr, applied at appropriate rates according to label directions, and EPA and DPR requirements. These label directions provide for public and worker safety by requiring posting of treated areas, pre-designation of mixing, storage and filling sites, and transportation and handling practices in accordance with toxicity of each formulation.

Weed treatment areas will be evaluated for presence of culturally significant plants through consultation with a designated tribal representative. Consultation may alter treatment methods, timing or allow for controlled harvest before treatments. Areas treated with herbicides will be posted on the ground and written notification sent to tribal officials and basket weavers.

High treatment priority will be placed on known sites and pathways of spread from those sites. Areas adjacent to stream courses and road and trail systems have moderate incidences of weed infestations and great potential for spread. Administrative sites (campgrounds, parking lots, trail heads, river accesses) are at risk of infestation and will be included in the treatment analysis.

Herbicide will be applied directly to weed leaves and stems. A surfactant may be used to enable herbicide penetration of the plant cuticle (a thick, waxy layer present on leaves and stems of most plants). The following types of foliar applicators will be used:

a. Spot applicators—Herbicide is sprayed directly onto target plants only; other desirable plants are avoided. These applicators include motorized rigs with spray hoses, backpack sprayers, and hand-pumped spray or spray bottles that can target very small plants or parts of plants. Crook-necked spray bottles and similar equipment may be used to carry herbicide over distances and through dense vegetation for safety reasons.

b. Wick (wipe-on) applicators—A sponge or wick on a handle wipes herbicide onto weed foliage and stems. The wick generally prevents drift or droplets from falling onto non-target plants and soil. Wick applicators will be used in riparian and streamside areas.

Implementation would begin in the spring and summer following the decision and extend for a period of at least 5 years.

Possible Alternatives

Control With Aerial Spraying

This alternative would utilize aerial spraying as a viable option. Aerial spraying was proposed for the 160-acre infestation of common Crupina. The alternative was dropped from consideration because it did not provide any distinct environmental advantages over the proposed action. Common Crupina populations are such at this time that applications would need to be continued over a long period of time and the eradication program would be cost prohibitive. It was determined that an Environmental Impact Statement needs to be completed for this occurrence as well as large populations of Scotch thistle.

Control Using Prescribed Fire

This alternative would utilize prescribed burning as a tool in the eradication and control of noxious weeds on the Forest. Prescribed fire will not be considered in detail because in the past, fire has proven to be a large contributor to the increase of noxious weeds on the Forest. For many weeds, there is little or no information on how each species will respond to a controlled fire. In fact, several studies have concluded that most fires actually increase the density of spotted knapweed, even when followed-up with herbicides. What little information is found indicates that fire has either no effect or aids in the establishment of many noxious weeds. Weeds in general inhabit disturbed sites, so in many cases fire will increase potential for many opportunistic species to take over an area. Other factors such as high costs, and labor-intensive implementation led to this method being dropped from consideration.

Responsible Official

Kathleen Jordan, Acting Forest Supervisor, Modoc National Forest, Supervisor's Office, 800 W. 12th, Alturas, CA 96101 (kjordan@fs.fed.us).

Nature of Decision To Be Made

The decision to be made is what actions from the Modoc National Forest Noxious Weed Strategy, if any, should be taken to control weeds on the Modoc National Forest, where treatment should be applied, what type of treatment(s) should be used and what additional mitigating measures and operating procedures not currently contained in the Proposed Action, will be applied, if any.

Scoping Process

Scoping began with the publication of the notice of intent in the Federal Register on April 24, 1998. On April 20, 1998, a scoping letter was mailed to 504 individuals, organizations, and agencies inviting their participation in the planning process. The mailing list for the scoping document was developed using lists of people who had contacted the Forest in the past and people who specifically might be interested in the management and control of noxious weeds on Modoc National Forest lands. News releases were sent to two local newspapers. Scoping was re-initiated in 2001. A news release was sent to the local newspaper and postcards were sent to those individuals that had responded to the initial scoping.

Tribal consultation with federally recognized tribes began in March 1998 with preliminary telephone calls to individual tribes. Later formal letters were sent to each tribe and face-to-face consultation meetings were held between line officers and tribal officials. Line officers traveled to each tribe's preferred meeting location.

Also in March 1998, contact was made with the California Indian Basketweavers Association (CIBA) and the California Department of Pesticide Regulation to obtain lists of individuals who were weavers that those organizations maintain. A public meeting was planned to solicit input from weavers. Letters and follow up phone calls to individual weavers were sent for the public meeting to be held in June 1998. A form was developed for individual weavers to return indicating their interest in participation of the public meeting. The form was mailed to 36 individual weavers with a preaddressed envelope enclosed. One form was returned by a person that was unable to attend the meeting and wanted to continue to receive information about the development of the Environmental Assessment. The public meeting was held just in case some individuals still wanted to attend. The result was that there was no participation.

In January 2001, tribal consultation with federally recognized tribes began again with telephone calls, formal letters and face-to-face meetings between line officers and tribal officials. Line officers met with tribal officials at the tribal offices of each respective tribe.

Telephone calls and letters were sent to unrecognized tribes whose relationship with the Forest had begun to develop. In February 2001, the Forest Botanist and the Forest Tribal Relations Program Manager traveled to Yreka, California to solicit input from one of the tribes.

Scoping meetings with weavers were held in Alturas, Susanville and Redding, California and Klamath Falls, Oregon. New mailing lists for individual weavers were requested from CIBA. The weavers on the CIBA mailing list told the Forest of additional weavers that weren't members of CIBA and might be interested. Scoping letters were sent to the new contacts and the Forest gave invitations to the meetings. Nineteen telephone calls were made to coordinate the meetings. Six home visits were made to determine interest.

Because many of the weavers of the Klamath Tribes do not belong to the CIBA, the Culture and Heritage Department of the Klamath Tribes suggested an article be placed in the tribal newsletter to invite weavers to the meeting in Oregon. A news article was developed to invite weavers to the public meetings. The Forest Botanist and the Forest Tribal Relations Program Manager meet with weavers in Chiloquin and Klamath Falls, Oregon.

One weaver known to live in Alturas was contacted at their home and a meeting was held in the Alturas Supervisor's Office to identify scoping issues from a weaver's perspective. No additional scoping is planned at this time as the comments and recommendations made during previous scoping and tribal consultation were used to revise the 1998 notice of intent.

Preliminary Issues

Following are the four issues that were identified during previous scoping for this project.

The effects on human health from the application of herbicides; this includes the quantities of herbicides, the proposed methods of herbicide application, and the potential effects on project workers, nearby residents and visitors to the project area.

The effects to water quality from the application of herbicides; this includes the effects on riparian vegetation, concentrations of pesticides found in surface waters, potential bioaccumulation of pesticides in aquatic life and the effects of treatments on the potential increase of sediment transport and delivery in streams.

The effects to vegetated communities, including sensitive plants, from the application of herbicides; this includes effects on plants of importance to local tribes and the potential impacts of treatment methods on desired plants species.

The effects on wildlife and fish, as represented by Threatened, Endangered, Sensitive (TES) and other Management Indicator Species (MIS), from the application of herbicides.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: October 25, 2002.
Kathleen A. Jordan,
Acting Forest Supervisor.

[FR Doc. 02-27787 Filed 11-1-02; 8:45 am]

BILLING CODE 3410-11-P